DEPARTMENT OF LABOR

Employment and Training Administration

Notice of Determinations Regarding Eligibility; To Apply for Worker Adjustment Assistance and NAFTA Transitional Adjustment Assistance

In accordance with Section 223 of the Trade Act of 1974, as amended, the Department of Labor herein presents summaries of determinations regarding eligibility to apply for trade adjustment assistance for workers (TA-W) issued during the period of November, 2002.

In order for an affirmative determination to be made and a certification of eligibility to apply for worker adjustment assistance to be issued, each of the group eligibility requirements of Section 222 of the Act must be met.

(1) that a significant number or proportion of the workers in the workers’ firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,420; Cawood Manufacturing Co., Inc.

TA-W-42,165; Wirtz Manufacturing Co., Port Huron, MI

TA-W-41,495; Arkwright, Inc., OCE USA Holding Co., Fiskville, RI

TA-W-41,655; BTA-Perfex, Butler, WI

TA-W-41,982; Kato Engineering, Inc., North Mankato, MN

TA-W-42,013; Baker Enterprises, Inc., Alpena, MI

TA-W-42,102; Northern Engraving Corp., Lansing Div., Lansing, IA

TA-W-42,189; Baker Electrical Products, Memphis, MI

TA-W-42,205; Sutherland Sheet Metal and Welding Co., Woonsocket, RI

In the following cases, the investigation revealed that the criteria for eligibility have not been met for the reasons specified.

Increased imports did not contribute importantly to worker separations at the firm.

TA-W-42,292; MacNeill Worldwide, a Subsidiary of MacNeill Engineering Co., Laconia, NH

The workers' firm does not produce an article as required for certification under Section 222 of the Trade Act of 1974.

TA-W-42,238; Eichleay Engineers and Constructors, Inc., Pittsburgh, PA

TA-W-42,175; Hilti, Inc., New Castle, PA

TA-W-42,183; IKA Logistics, Inc., Packaging Div., a Subsidiary of Inabata America Corp., El Paso, TX

The investigation revealed that criteria (1) has not been met. A Significant number or proportion of the workers did not become totally or partially separated from employment as required for certification.

TA-W-42,273; General Mills, Bakeries and Food Service, Hillside, MI

Affirmative Determinations for Worker Adjustment Assistance

The following certifications have been issued; the date following the company name and location of each determination references the impact date for all workers of such determination.

TA-W-42,070; Athens Products, Athens, TN: August 9, 2001.

TA-W-42,248; Kasper Machine Co., Inc., Madison Heights, MI: September 18, 2001.

TA-W-42,302; Trends Clothing Corp., a/k/a/ Trends International, Miami, FL: October 9, 2001.

TA-W-42,305; Unison Industries, a Subsidiary of G.E. Fort Worth, TX: October 8, 2001

TA-W-42,329; International Hosiery Network, LLC, Hickory, NC: October 21, 2001.

TA-W-50,020; DMI-Arkansas, Inc., d/b/a/ Arkansas General Industries, Bald Knob, AR: November 5, 2001.

TA-W-42,280; Covington Industries, Inc., High Point, NC: October 9, 2001.

TA-W-42,061; Metropolitan Steel Industries, Inc., d/b/a Steelco, Sinking Springs, PA: August 20, 2001.

TA-W-50,024; Hudson Respiratory Care, Inc., Argyle, NY: November 4, 2001.

TA-W-42,257; Arnold Engineering Co., Marengo, IL: October 1, 2001.

TA-W-42,240; RBX Industries, Inc., Colt, AR: October 1, 2001.

TA-W-42,168; Gulfstream Aerospace Technologies, Bethany, OK: September 6, 2001.

TA-W-42,153; Wells Lamont Corp., Packing and Sewing Department, Waynesboro, MS: September 4, 2001.

TA-W-42,150 &A; Wyman-Gordon Forgings, a Div. of Precision Castparts Corp., North Graft, MA, Worcester, MA: September 4, 2001.

TA-W-42,139; Fabry Industries, Green Bay, WI: August 27, 2001.

TA-W-42,045; Regal Manufacturing, Inc., New York, NY: August 21, 2001.

TA-W-42,022; Molded Container Corp., Portland, OR: August 8, 2001.

TA-W-41,144; Dawson Furniture Co., Webb City, MO: February 20, 2001.

TA-W-40,505; Tee Tease, LLC., Commerce, CA: October 31, 2000.

TA-W-42,744; Angelica Image Apparel, St. Louis, MO: June 12, 2001.

TA-W-41,623; Decrane Aircraft Seating Co., Inc., E.R.D.A. Medical Div., Marinette, WI: May 24, 2001.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the months of November, 2002.

In order for an affirmative determination to be made and a certification of eligibility to apply for NAFTA-TAA the following group eligibility requirements of Section 250 of the Trade Act must be met:

(1) that a significant number or proportion of the workers in the workers‘ firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increased imports contributed importantly to such workers’ separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05901; Dawson Furniture Co., Webb City, MO

NAFTA-TAA-06220; BTA-Perfex, Div. of Thermal Engineering International, Butler, WI

NAFTA-TAA-06342; Louisiana-Pacific Corp., Plywood Div., Bon Wier, TX

NAFTA-TAA-06463; Baker Enterprises, Inc., Alpena, MI

NAFTA-TAA-06510; Northern Engraving Corp., Lansing Div., Lansing, IA

NAFTA-TAA-07565; Baker Electrical Products, Inc., Memphis, MI

NAFTA-TAA-07644; Fedder's Appliances, Effingham, IL

NAFTA-TAA-06471; Wisconsin Pattern Co., Racine, WI

NAFTA-TAA-07607; RBX Industries, Inc., Colt, AR

The investigation revealed that the criteria for eligibility have not been met for the reasons specified.

The investigation revealed that workers of the subject firm did not produce an article within the meaning of Section 250(a) of the Trade Act, as amended.

NAFTA-TAA-07581; IKA Logistics, Inc., Packaging Div., A Subsidiary of Inabata America Corp., El Paso, TX

NAFTA-TAA-06378; Willamette Industries, a Weyerhaueser Co., Albany BMG Div., Albany, OR

The investigation revealed that criteria (1) has not been met. A significant number or proportion of the workers in such workers' firm or an appropriate subdivision (including workers in any agricultural firm or appropriate subdivision thereof) did not become totally or partially separated from employment as required for certification.

NAFTA-TAA-07526; State of Alaska Commercial Fisheries Entry Commission Permit #65826E, Togiak, AK

NAFTA-TAA-07315; State of Alaska Commercial Fisheries Entry Commission Permit #64750K, Manokotak, AK

NAFTA-TAA-07102; State of Alaska Commercial Fisheries Entry Commission Permit #64914G, Dillingham, AK

NAFTA-TAA-07059; State of Alaska Commercial Fisheries Entry Commission Permit #60161A, Togiak, AK

NAFTA-TAA-07046; State of Alaska Commercial Fisheries Entry Commission Permit #57876J, Togiak, AK

NAFTA-TAA-07041; State of Alaska Commercial Fisheries Entry Commission Permit #58078X, Anchorage, AK

NAFTA-TAA-07042; Permit #61508S, Anchorage, AK

NAFTA-TAA-06937; State of Alaska Commercial Fisheries Entry Commission Permit #56498G, New Stuyahok, AK

NAFTA-TAA-06875; State of Alaska Commercial Fisheries Entry Commission Permit #57767U, Naknek, AK

NAFTA-TAA-06803; State of Alaska Commercial Fisheries Entry Commission Permit #64822I, Koliganek, AK

NAFTA-TAA-07546; Permit #60018B, Ugashik, AK

NAFTA-TAA-07205; Permit #59859P, Dillingham, AK

The investigation revealed that criteria (2) has not been met. Sales or production, or both, did not decline during the relevant period as required for certification.

NAFTA-TAA-07394; Permit #65838L, Naknek, AK

NAFTA-TAA-07393; Permit #57957Q, Naknek, AK

NAFTA-TAA-07064; State of Alaska Commercial Fisheries Entry Commission Permit #57453B, Togiak, AK

NAFTA-TAA-06995; State of Alaska Commercial Fisheries Entry Commission, Permit #61962L, South Naknek, AK

NAFTA-TAA-06735; State of Alaska Commercial Fisheries Entry Commission Permit #55224K, Egegik, AK

NAFTA-TAA-06619; State of Alaska Commercial Fisheries Entry Commission Permit #59338H, Dillingham, AK

NAFTA-TAA-06578; State of Alaska Commercial Fisheries Entry Commission Permit #64128B, Dillingham, AK

Affirmative Determinations NAFTA-TAA

NAFTA-TAA-05848; Tee Tease, LLC, Commerce, CA: October 31, 2000.

NAFTA-TAA-06517; Metropolitan Steel Industries, Inc., d/b/a Steelco, Sinking Springs, PA: August 22, 2001.

NAFTA-TAA-06600; State of Alaska Commercial Fisheries Entry Commission Permit #58874X, Dillingham, AK: September 5, 2001.

NAFTA-TAA-06923; Permit #64808Q, New Stuyahok, AK: September 5, 2001.

NAFTA-TAA-07291; State of Alaska Commercial Fisheries Entry Permit #606910, Manokotak, AK:

NAFTA-TAA-07301; State of Alaska Commercial Fisheries Entry Commission Permit #65405G, Manokotak, AK: September 5, 2001.

NAFTA-TAA-07511; State of Alaska Commercial Fisheries Entry Commission Permit #64734J, Togiak, AK: September 5, 2001.

NAFTA-TAA-07611; Unison Industries, A Subsidiary of G.E., Fort Worth, TX: October 10, 2001.

NAFTA-TAA-07612; SMTC Manufacturing Corp., Austin, TX: August 16, 2001.

NAFTA-TAA-06228; Decrane Aircraft Seating Co., Inc., E.R.D.A. Medical Div., Marinette, WI: May 28, 2001.

NAFTA-TAA-07286; State of Alaska Commercial Fisheries Entry Commission Permit #65874I, Monokotak, AK: September 5, 2001.

NAFTA-TAA-06298; Angelica Image Apparel, St. Louis, MO: June 21, 2001.

NAFTA-TAA-06771; State of Alaska Commercial Fisheries Entry Commission Permit #68181M, Iliamna, AK: September 5, 2001.

NAFTA-TAA-06808; State of Alaska Commercial Fisheries Entry Commission Permit #56834J, Koliganek, AK: September 5, 2001.

NAFTA-TAA-06826; State of Alaska Commercial Fisheries Entry Commission Permit #60843A, Levelock, AK: September 5, 2001.

NAFTA-TAA-07079; State of Alaska Commercial Fisheries Entry Commission Permit #67875V, Twin Hills, AK: September 5, 2001.

NAFTA-TAA-07280; Permit #64911E, Manokotak, AK: September 3, 2001.

NAFTA-TAA-07568; Molded Container Corp., Portland, OR: August 8, 2001.

I hereby certify that the aforementioned determinations were issued during the months of November, 2002. Copies of these determinations are available for inspection in Room C-5311, U.S. Department of Labor, 200 Constitution Avenue, NW., Washington, DC 20210 during normal business hours or will be mailed to persons who write to the above address.

Edward A. Tomchick,
Director, Division of Trade Adjustment Assistance.

[FR Doc. 02-30068 Filed 11-26-02; 8:45 am]

BILLING CODE 4510-30-P